DEPARTMENT OF THE INTERIOR

National Park Service

60-Day Notice of Intention To Request Clearance of Collection of Information: Opportunity for Public Comment

AGENCY: National Park Service, The Department of the Interior.

ACTION: Notice and request for comments.

SUMMARY: Under the provisions of the Paperwork Reduction Act of 1995 (Pub. L. 104-13, 44 U.S.C., Chapter 3507) and 5 CFR part 1320, Reporting and Record keeping Requirements, the National Park Service invites public comments on an extension of a currently approved collection (OMB#1024-018). NPS specifically requests comments on: (1) The need for information including whether the information has practical utility; (2) the accuracy of the reporting burden estimate; (3) ways to enhance the quality, utility, and clarity of the information to be collected; and (4) ways to minimize the burden of information collection on respondents, including the use of automated collection techniques or other forms of information technology.

The primary purpose if the ICR is to nominate properties for listing in the National Register of Historic Places, the official list of the Nation's cultural resources worthy of preservation, which public law requires that the Secretary of the Interior maintain and expand. Properties are listed in the National Register upon nomination by State Historic Preservation Officers and Federal Preservation Officers. Law also requires Federal agencies to request determinations of eligibility for property under their jurisdiction of affected by their programs and projects. The forms provide the historic documentation on which decisions for listing and eligibility are based.

DATES: Public comments will be accepted on or before sixty days from the date of publication in the Federal Register.

ADDRESSES: Send comments to Carol Shull, Keeper of the National Register, National Park Service, 1849 “C” Street, NW., #2280, Washington, DC 20240. E-mail: carol_shull@nps.gov. Phone: 202-354-2234, Fax 202-371-2229.

To Request Copies of the Documents Contact: Carol Shull, Keeper of the National Register, National Park Service, 1849 “C” Street, NW., #2280, Washington, DC 20240. E-mail carol_shull@nps.gov. Phone: 202-354-2234, Fax 202-371-2229. For further information, Contact Carol Shull, (202) 354-2234.

SUPPLEMENTARY INFORMATION: Title: National Register of Historic Places Registration Form, National Register of Historic Places Continuation Sheet, and National Register of Historic Places Multiple property Documentation Form.

Form: NPS 10-900, 10-900-A, 10-900-B.

OMB Number: 1024-0018.

Expiration Date: 01/31/05.

Type of Request: Extension of a currently approved collection.

Description of need: The National Historic Preservation Act requires the Secretary of the Interior to maintain and expand the National Register of Historic Places, and to establish criteria and guidelines for including properties in the National Register. The National Register of Historic Places Registration Form documents properties nominated for listing in the National Register and demonstrates that they meet the criteria established for inclusion. The documentation is used to assist in preserving and protecting the properties and for heritage education and interpretation. National Register properties must be considered in the planning for Federal or federally assisted projects. National Register listing is required for eligibility for the federal rehabilitation tax incentives.

Description of respondents: The affected public are State, tribal, and local governments, federal agencies, business, non-profit organizations, and individuals. Nominations to the National Register of Historic Places are voluntary.

Estimated annual reporting burden: 56,700 hours.

Estimated average burden hours per response: 18 hours.

Estimated average number of respondents: 1,575.

Estimated frequency of response: 1,575 annually.

Dated: October 21, 2004.
Leonard E. Stowe,
Acting, National Park Service Information and Collection Clearance Officer.

[FR Doc. 04-24980 Filed 11-9-04; 8:45 am]

BILLING CODE 4312-52-M